COMMITTEE FOR PURCHASE FROM PEOPLE WHO ARE BLIND OR SEVERELY DISABLED

Procurement List; Addition and Deletions

AGENCY: Committee for Purchase From People Who Are Blind or Severely Disabled.

ACTION: Addition to and deletions from the Procurement List.

SUMMARY: This action adds a service to the Procurement List that will be provided by the nonprofit agency employing persons who are blind or have other severe disabilities, and deletes products from the Procurement List previously furnished by such agencies.

DATES: Effective Date: 09/29/2015.

ADDRESSES: Committee for Purchase From People Who Are Blind or Severely Disabled, 1401 S. Clark Street, Suite 715, Arlington, Virginia 22202-4149.

FOR FURTHER INFORMATION CONTACT: Barry S. Lineback, Telephone: (703) 603-7740, Fax: (703) 603-0655, or email CMTEFedReg@AbilityOne.gov.

SUPPLEMENTARY INFORMATION:

Addition

On 7/10/2015 (80 FR 39759-39760), the Committee for Purchase From People Who Are Blind or Severely Disabled published notice of proposed addition to the Procurement List.

After consideration of the material presented to it concerning capability of qualified nonprofit agencies to provide the service and impact of the addition on the current or most recent contractors, the Committee has determined that the service listed below is suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organization that will provide the service to the Government.

2. The action will result in authorizing a small entity to provide the service to the Government.

3. There are no known regulatory alternatives which would accomplish the objectives of the Javits-Wagner-O'Day Act (41 U.S.C. 8501-8506) in connection with the service proposed for addition to the Procurement List.

End of Certification

Accordingly, the following service is added to the Procurement List:

Service

Service Type: Equipment and Facility Support Service.

Service is Mandatory for: US Air Force, Ogden Air Logistics Complex, 6038 Aspen Avenue, Hill AFB, UT.

Mandatory Source of Supply: Beacon Group SW., Inc., Tucson, AZ.

Contracting Activity: Dept of the Air Force, FA8224 OL HPZI PZIM Hill AFB, UT.

Deletions

On 7/17/2015 (80 FR 42481-42483) and 7/24/2015 (80 FR 44078), the Committee for Purchase From People Who Are Blind or Severely Disabled published notices of proposed deletions from the Procurement List.

After consideration of the relevant matter presented, the Committee has determined that the products listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products to the Government.

3. There are no known regulatory alternatives which would accomplish the objectives of the Javits-Wagner-O'Day Act (41 U.S.C. 8501-8506) in connection with the products deleted from the Procurement List.

End of Certification

Accordingly, the following products are deleted from the Procurement List:

Products

NSN(s)—Product Name(s)

7530-00-160-8476—Index Sheet Sets, Alphabetical, 9½″ × 6″, Buff

7530-01-456-6079—Index Sheet Sets, Tab 50

7530-01-456-6078—Index Sheet Sets, Tab 31

7530-01-456-6077—Index Sheet Sets, Tab 26

7530-01-456-6076—Index Sheet Sets, Tab 49

7530-01-456-6075—Index Sheet Sets, Tab 47

7530-01-456-6074—Index Sheet Sets, Tab 21

7530-01-456-6073—Index Sheet Sets, Tab 48

7530-01-456-6072—Index Sheet Sets, Tab 20

7530-01-456-6071—Index Sheet Sets, Tab 28

7530-01-456-6070—Index Sheet Sets, Tab 19

7530-01-456-6069—Index Sheet Sets, Tab 30

7530-01-456-6068—Index Sheet Sets, Tab 27

7530-01-456-6067—Index Sheet Sets, Tab 29

7530-01-456-6066—Index Sheet Sets, Tab 22

7530-01-456-6065—Index Sheet Sets, Tab 25

7530-01-456-6064—Index Sheet Sets, Tab 24

7530-01-456-6063—Index Sheet Sets, Tab 1

7530-01-456-6062—Index Sheet Sets, Tab 23

7530-01-456-6061—Index Sheet Sets, Tab 18

7530-01-456-6060—Index Sheet Sets, Tab 17

7530-01-456-6059—Index Sheet Sets, Tab 43

7530-01-456-6058—Index Sheet Sets, Tab 45

7530-01-456-6057—Index Sheet Sets, Tab 46

7530-01-456-6056—Index Sheet Sets, Tab 42

7530-01-456-6055—Index Sheet Sets, Tab 44

7530-01-456-6054—Index Sheet Sets, Tab 41

7530-01-456-6053—Index Sheet Sets, Tab 34

7530-01-456-6052—Index Sheet Sets, Tab 33

7530-01-456-6051—Index Sheet Sets, Tab 37

7530-01-456-6050—Index Sheet Sets, Tab 36

7530-01-456-6049—Index Sheet Sets, Tab 40

7530-01-456-6048—Index Sheet Sets, Tab 12

7530-01-456-6047—Index Sheet Sets, Tab 35

7530-01-456-6046—Index Sheet Sets, Tab 11

7530-01-456-6045—Index Sheet Sets, Tab 15

7530-01-456-6044—Index Sheet Sets, Tab 39

7530-01-456-6043—Index Sheet Sets, Tab 10

7530-01-456-6042—Index Sheet Sets, Tab 5

7530-01-456-6041—Index Sheet Sets, Tab 38

7530-01-456-6040—Index Sheet Sets, Tab 14

7530-01-456-6039—Index Sheet Sets, Tab 32

7530-01-456-6038—Index Sheet Sets, Tab 4

7530-01-456-6037—Index Sheet Sets, Tab 13

7530-01-456-6036—Index Sheet Sets, Tab 16

7530-01-456-6034—Index Sheet Sets, Tab 6

7530-01-456-6033—Index Sheet Sets, Tab 2

7530-01-456-6032—Index Sheet Sets, Tab 9

7530-01-456-6030—Index Sheet Sets, Tab 8

7530-01-456-6028—Index Sheet Sets, Tab 3

7530-01-456-6027—Index Sheet Sets, Tab 7

7530-01-456-2264—Index Sheet Sets, Tab O

7530-01-456-2263—Index Sheet Sets, Tab P

7530-01-456-2262—Index Sheet Sets, Tab N

7530-01-456-2261—Index Sheet Sets, Tab K

7530-01-456-2260—Index Sheet Sets, Tab L

7530-01-456-2259—Index Sheet Sets, Tab M

7530-01-456-2255—Index Sheet Sets, Tab T

7530-01-456-2254—Index Sheet Sets, Tab X

7530-01-456-2253—Index Sheet Sets, Tab Y

7530-01-456-2252—Index Sheet Sets, Tab S

7530-01-456-2251—Index Sheet Sets, Tab Z

7530-01-456-2250—Index Sheet Sets, Tab V

7530-01-456-2248—Index Sheet Sets, Tab W

7530-01-456-2247—Index Sheet Sets, Tab U

7530-01-456-2246—Index Sheet Sets, Tab R

7530-01-456-2245—Index Sheet Sets, Tab Q

7530-01-452-2043—Index Sheet Sets, Tab J

7530-01-452-2042—Index Sheet Sets, Tab H

7530-01-452-2041—Index Sheet Sets, Tab I

7530-01-452-2040—Index Sheet Sets, Tab D

7530-01-452-2039—Index Sheet Sets, Tab F

7530-01-452-2038—Index Sheet Sets, Tab G

7530-01-452-2037—Index Sheet Sets, Tab E

7530-01-452-2036—Index Sheet Sets, Tab C

7530-01-452-2035—Index Sheet Sets, Tab B

7530-01-452-2034—Index Sheet Sets, Tab A

Mandatory Source of Supply: Easter Seals Western and Central Pennsylvania, Pittsburgh, PA.

Contracting Activity: General Services Administration, New York, NY.

NSN(s)—Product Name(s):

6505-01-009-2897—Mineral Oil, Lanolated.

6505-00-890-2027—Mineral Oil, Lanolated.

Mandatory Source of Supply: Montgomery County Chapter, NYSARC, Inc., Amsterdam, NY.

Contracting Activity: Defense Logistics Agency Troop Support.

NSN(s)—Product Name(s):

MR 807—Spoon, Slotted, SS Trim.

MR 809—Turner, Slotted, SS Trim.

MR 810—Skimmer, Kitchen, SS Trim.

MR 814—Spatula, Wide, SS Trim.

MR 912—Duster, Microfiber.

MR 913—Duster, Microfiber, Utility.

Mandatory Source of Supply: Industries for the Blind, Inc., West Allis, WI.

MR 844—Clip, Bag, Mini, Magnetic.

MR 845—Plastic Bag Clip.

Mandatory Source of Supply: The Lighthouse for the Blind, Inc. (Seattle Lighthouse), Seattle, WA.

Contracting Activity: Defense Commissary Agency.

NSN(s)—Product Name(s):

7210-01-244-9734—Mattress, Foam.

7210-01-244-9735—Mattress, Foam.

Mandatory Source of Supply: LC Industries, Inc., Durham, NC.

7210-00-052-7327—Mattress, Foam.

7210-00-290-8297—Mattress, Foam.

7210-00-290-8298—Mattress, Foam.

7210-00-290-8299—Mattress, Foam.

7210-00-290-8300—Mattress, Foam.

Mandatory Source of Supply: Winston-Salem Industries for the Blind, Inc., Winston-Salem, NC.

Contracting Activity: Defense Logistics Agency Troop Support.

NSN(s)—Product Name(s):

7510-01-458-1816—Pencil, Woodcased, Camouflage.

7510-01-451-9176—Pencil, Woodcased.

7510-01-357-8952—Pencil, Writing, Recycled.

7510-00-281-5235—Pencil, General Writing.

7510-00-286-5757—Pencil, General Writing.

Mandatory Source of Supply: Industries for the Blind, Inc., West Allis, WI.

Contracting Activity: General Services Administration, New York, NY.

NSN(s)—Product Name(s):

7520-01-424-4855—Marker, Tube Type, Permanent Ink (Colossal) (Red).

7520-01-424-4870—Marker, Tube Type, Permanent Ink (Colossal) (Green).

7520-01-424-4880—Marker, Tube Type, Permanent Ink (Colossal) (Blue).

Mandatory Source of Supply: Dallas Lighthouse for the Blind, Inc., Dallas, TX.

Contracting Activity: General Services Administration, New York, NY.

NSN(s)—Product Name(s):

7530-00-NIB-0557—Folder, Classification.

7530-00-NIB-0061—Folder, Classification.

7530-00-NIB-0062—Folder, Classification.

7530-00-NIB-0063—Folder, Classification.

7530-00-NIB-0064—Folder, Classification.

7530-00-NIB-0065—Folder, Classification.

7530-00-NIB-0068—Folder, Classification.

7530-00-NIB-0069—Folder, Classification.

7530-00-NIB-0070—Folder, Classification.

Mandatory Source of Supply: Clovernook Center for the Blind and Visually Impaired, Cincinnati, OH.

Contracting Activity: General Services Administration, New York, NY.

NSN(s)—Product Name(s):

7530-00-286-6983—Set, Index Sheet, 3 Hole Punched on 8½″ side, No Tab, Buff, 8½″ x 11″.

7530-00-286-6984—Set, Index Sheet, 3 Hole Punched on 11″ side, No Tab, Buff, 8½″ x 11″.

Mandatory Source of Supply: Louisiana Association for the Blind, Shreveport, LA.

Contracting Activity: General Services Administration, New York, NY.

NSN(s)—Product Name(s):

7530-00-144-9600—Paper, Tabulating.

7530-00-144-9601—Paper, Tabulating.

7530-00-144-9602—Paper, Tabulating.

7530-00-144-9604—Paper, Tabulating.

7530-00-185-6751—Paper, Tabulating.

7530-00-185-6752—Paper, Tabulating Machine.

7530-00-185-6754—Paper, Tabulating.

Mandatory Source of Supply: Association for Vision Rehabilitation and Employment, Inc., Binghamton, NY.

Contracting Activity: General Services Administration, New York, NY.

NSN(s)—Product Name(s):

7530-00-NIB-0495—Index Tabs, Mylar Reinforced.

7530-00-NIB-0494—Index Tabs, Mylar Reinforced.

7530-00-NIB-0493—Index Tabs, Mylar Reinforced.

7530-00-NIB-0492—Index Tabs, Mylar Reinforced.

7530-00-NIB-0491—Index Tabs, Mylar Reinforced.

7530-00-NIB-0490—Index Tabs, Mylar Reinforced.

7530-00-NIB-0489—Index Tabs, Mylar Reinforced.

Mandatory Source of Supply: South Texas Lighthouse for the Blind, Corpus Christi, TX.

Contracting Activity: General Services Administration, New York, NY.

NSN(s)—Product Name(s):

7520-00-NIB-1359—Easel, Wallboard, Magnetic.

7520-00-NIB-1358—Easel, Wallboard, Magnetic.

7520-00-NIB-1357—Easel, Wallboard, Magnetic.

Mandatory Source of Supply: The Lighthouse for the Blind, Inc. (Seattle Lighthouse), Seattle, WA.

Contracting Activity: General Services Administration, New York, NY.

NSN(s)—Product Name(s):

7510-01-386-2265—Pencil, Fine-Line Writing.

7510-00-286-5750—Pencil, Fine-Line Writing.

7510-00-286-5751—Pencil, Fine-Line Writing.

7510-00-286-5755—Pencil, Fine-Line Writing.

Mandatory Source of Supply: Central Association for the Blind & Visually Impaired Utica, NY Industries for the Blind, Inc., West Allis, WI.

Contracting Activity: General Services Administration, New York, NY.

NSN(s)—Product Name(s):

6515-00-NIB-8020—Gloves, Exam, Nitrile, Latex-Free, Powder-Free, W/Inner Aloe coating, 3 mil (palm), Green, x-Large.

6515-00-NIB-8019—Gloves, Exam, Nitrile, Latex-Free, Powder-Free, W/Inner Aloe coating, 3 mil (palm), Green, Large.

6515-00-NIB-8018—Gloves, Exam, Nitrile, Latex-Free, Powder-Free, W/Inner Aloe coating, 3 mil (palm), Green, Medium.

6515-00-NIB-8017—Gloves, Exam, Nitrile, Latex-Free, Powder-Free, W/Inner Aloe coating, 3 mil (palm), Green, Small.

6515-00-NIB-8016—Gloves, Exam, Nitrile, Latex-Free, Powder-Free, W/Inner Aloe coating, 3 mil (palm), Green, x-Small.

6515-00-NIB-7231—Gloves, Exam, Nitrile, Latex-Free, Powder-Free, W/Aloe lining, Green, x-Large.

6515-00-NIB-7230—Gloves, Exam, Nitrile, Latex-Free, Powder-Free, W/Aloe lining, Green, Large.

6515-00-NIB-7229—Gloves, Exam, Nitrile, Latex-Free, Powder-Free, W/Aloe lining, Green, Medium.

6515-00-NIB-7228—Gloves, Exam, Nitrile, Latex-Free, Powder-Free, W/Aloe lining, Green, Small Mandatory Source of Supply: Bosma Industries for the Blind, Inc., Indianapolis, IN.

Contracting Activity: Department of Veterans Affairs, NAC.

NSN(s)—Product Name(s):

7510-00-NIB-0566—Custom Planners & Accessory Kit.

7510-00-NIB-0568—Custom Planners & Accessory Kit.

7510-00-NIB-0571—Custom Planners & Accessory Kit.

7510-00-NIB-0574—Custom Planners & Accessory Kit.

7510-00-NIB-0576—Custom Planners & Accessory Kit.

Mandatory Source of Supply: The Chicago Lighthouse for People Who Are Blind or Visually Impaired, Chicago, IL.

Contracting Activity: General Services Administration, Household and Industrial Furniture, Arlington, VA.

NSN(s)—Product Name(s):

7530-00-243-9436—Card, Index, Unruled, White, 5″ x 8″.

7530-00-243-9437—Card, Index, Ruled, White, 5″ x 8″.

7530-00-244-7447—Card, Index, Ruled, Green, 5″ x 8″.

7530-00-244-7451—Card, Index, Unruled, Buff, 4″ x 6″.

7530-00-244-7453—Card, Index, Unruled, Green, 3″ x 5″.

7530-00-244-7456—Card, Index, Unruled, Salmon, 3″ x 5″.

7530-00-244-7459—Card, Index, Unruled, White, 4″ x 6″.

7530-00-247-0310—Card, Index, Ruled, Buff, 3″ x 5″.

7530-00-247-0311—Card, Index, Ruled, Buff, 5″ x 8″.

7530-00-247-0315—Card, Index, Ruled, Salmon, 5″ x 8″.

7530-00-247-0318—Card, Index, Ruled, White, 3″ x 5″.

7530-00-264-3723—Card, Index, Ruled, White, 4″ x 6″.

7530-00-949-2787—Card, Index, Unruled, Pink, 5″ x 8″.

7530-00-238-4331—Card, Index, Unruled, Salmon, 5″ x 8″.

Mandatory Source of Supply: Louisiana Association for the Blind, Shreveport, LA.

Contracting Activity: General Services Administration, New York, NY.

Barry S. Lineback,
Director, Business Operations.

[FR Doc. 2015-21511 Filed 9-1-15; 8:45 am]

BILLING CODE 6353-01-P